ENVIRONMENTAL PROTECTION AGENCY

40 CFR Part 63

[EPA-HQ-OAR-2017-0358; FRL-9988-69-OAR]

RIN 2060-AT66

National Emission Standards for Hazardous Air Pollutants: Friction Materials Manufacturing Facilities Residual Risk and Technology Review

AGENCY: Environmental Protection Agency (EPA).

ACTION: Final rule.

SUMMARY: This action finalizes the residual risk and technology review (RTR) conducted for the Friction Materials Manufacturing Facilities source category regulated under national emission standards for hazardous air pollutants (NESHAP). In addition, we are taking final action addressing periods of startup, shutdown, and malfunction (SSM). We are finalizing our proposed determination that the risks from the category are acceptable and that the current NESHAP provides an ample margin of safety to protect public health. We identified no new cost-effective controls under the technology review to achieve further emissions reductions. These final amendments include amendments to revise reporting requirements for deviations. These amendments are made under the authority of the Clean Air Act (CAA) and will improve the effectiveness of the rule. The amendments are environmentally neutral.

DATES: This final rule is effective on February 8, 2019.

ADDRESSES: The EPA has established a docket for this action under Docket ID No. EPA-HQ-OAR-2017-0358. All documents in the docket are listed on the https://www.regulations.gov website. Although listed, some information is not publicly available, e.g., confidential business information (CBI) or other information whose disclosure is restricted by statute. Certain other material, such as copyrighted material, is not placed on the internet and will be publicly available only in hard copy form. Publicly available docket materials are available either electronically through https://www.regulations.gov, or in hard copy at the EPA Docket Center, EPA WJC West Building, Room Number 3334, 1301 Constitution Ave. NW, Washington, DC. The Public Reading Room hours of operation are 8:30 a.m. to 4:30 p.m. Eastern Standard Time (EST), Monday through Friday. The telephone number for the Public Reading Room is (202) 566-1744, and the telephone number for the Docket Center is (202) 566-1742.

FOR FURTHER INFORMATION CONTACT: For questions about this final action, contact Korbin Smith, Sector Policies and Programs Division (D243-04), Office of Air Quality Planning and Standards, U.S. Environmental Protection Agency, Research Triangle Park, North Carolina, 27711; telephone number: (919) 541-2416; fax number: (919) 541-4991; and email address: smith.korbin@epa.gov. For specific information regarding the risk modeling methodology, contact James Hirtz, Health and Environmental Impacts Division (C539-02), Office of Air Quality Planning and Standards, U.S. Environmental Protection Agency, Research Triangle Park, North Carolina 27711; telephone number: (919) 541-0881; fax number: (919) 541-0840; and email address: hirtz.james@epa.gov. For information about the applicability of the NESHAP to a particular entity, contact Sara Ayres, Office of Enforcement and Compliance Assurance, U.S. Environmental Protection Agency, EPA WJC South Building, 1200 Pennsylvania Ave. NW, Washington, DC 20460; telephone number: (312) 353-6266; and email address: ayres.sara@epa.gov.

SUPPLEMENTARY INFORMATION:

Preamble acronyms and abbreviations. We use multiple acronyms and terms in this preamble. While this list may not be exhaustive, to ease the reading of this preamble and for reference purposes, the EPA defines the following terms and acronyms here:

CAA Clean Air Act

CFR Code of Federal Regulations

EPA Environmental Protection Agency

HAP hazardous air pollutant(s)

ICR Information Collection Request

km kilometer

MACT maximum achievable control technology

NAICS North American Industry Classification System

NESHAP national emission standards for hazardous air pollutants

NTTAA National Technology Transfer and Advancement Act

OMB Office of Management and Budget

PRA Paperwork Reduction Act

RFA Regulatory Flexibility Act

RFPC Railroad Friction Products Corporation

RTC response to comment

RTR residual risk and technology review

SSM startup, shutdown, and malfunction

tpy tons per year

UMRA Unfunded Mandates Reform Act

Background information. On May 3, 2018, the EPA proposed revisions to the Friction Materials Manufacturing Facilities NESHAP based on our RTR. In this action, we are finalizing decisions and revisions for the rule. We summarize some of the more significant comments we timely received regarding the proposed rule and provide our responses in this preamble. A summary of all other public comments on the proposal and the EPA's responses to those comments is available in “Summary of Public Comments and Responses for Friction Materials Manufacturing Facilities Risk and Technology Review,” Docket ID No. EPA-HQ-OAR-2017-0358. A “track changes” version of the regulatory language that incorporates the changes in this action is available in the docket.

Organization of this document. The information in this preamble is organized as follows:

I. General Information

A. Does this action apply to me?

B. Where can I get a copy of this document and other related information?

C. Judicial Review and Administrative Reconsideration

II. Background

A. What is the statutory authority for this action?

B. What is the Friction Materials Manufacturing Facilities source category and how does the NESHAP regulate HAP emissions from the source category?

C. What changes did we propose for the Friction Materials Manufacturing Facilities source category in our May 3, 2018, proposal?

III. What is included in this final rule?

A. What are the final rule amendments based on the risk review for the Friction Materials Manufacturing Facilities source category?

B. What are the final rule amendments based on the technology review for the Friction Materials Manufacturing Facilities source category?

C. What are the final rule amendments addressing emissions during periods of SSM?

D. What other changes have been made to the NESHAP?

E. What are the effective and compliance dates of the standards?

IV. What is the rationale for our final decisions and amendments for the Friction Materials Manufacturing Facilities source category?

A. Residual Risk Review for the Friction Materials Manufacturing Facilities Source Category

B. Technology Review for the Friction Materials Manufacturing Facilities Source Category

C. SSM

V. Summary of Cost, Environmental, and Economic Impacts and Additional Analyses Conducted

A. What are the affected sources?

B. What are the air quality impacts?

C. What are the cost impacts?

D. What are the economic impacts?

E. What are the benefits?

F. What analysis of environmental justice did we conduct?

G. What analysis of children's environmental health did we conduct?

VI. Statutory and Executive Order Reviews

A. Executive Orders 12866: Regulatory Planning and Review and Executive Order 13563: Improving Regulation and Regulatory Review

B. Executive Order 13771: Reducing Regulation and Controlling Regulatory Costs

C. Paperwork Reduction Act (PRA)

D. Regulatory Flexibility Act (RFA)

E. Unfunded Mandates Reform Act (UMRA)

F. Executive Order 13132: Federalism

G. Executive Order 13175: Consultation and Coordination With Indian Tribal Governments

H. Executive Order 13045: Protection of Children From Environmental Health Risks and Safety Risks

I. Executive Order 13211: Actions Concerning Regulations That Significantly Affect Energy Supply, Distribution, or Use

J. National Technology Transfer and Advancement Act (NTTAA)

K. Executive Order 12898: Federal Actions To Address Environmental Justice in Minority Populations and Low-Income Populations

L. Congressional Review Act (CRA)

I. General Information

A. Does this action apply to me?

Regulated entities. Categories and entities potentially regulated by this action are shown in Table 1 of this preamble.

Table 1—NESHAP and Industrial Source Categories Affected by This Final Action
NESHAP and source category | NAICS ¹ code
Friction Materials Manufacturing Facilities | 33634, 327999, 333613.
¹ North American Industry Classification System.

Table 1 of this preamble is not intended to be exhaustive, but rather to provide a guide for readers regarding entities likely to be affected by the final action for the source category listed. To determine whether your facility is affected, you should examine the applicability criteria in the appropriate NESHAP. If you have any questions regarding the applicability of any aspect of this NESHAP, please contact the appropriate person listed in the preceding FOR FURTHER INFORMATION CONTACT section of this preamble.

B. Where can I get a copy of this document and other related information?

In addition to being available in the docket, an electronic copy of this final action will also be available on the internet. Following signature by the EPA Administrator, the EPA will post a copy of this final action at: https://www.epa.gov/stationary-sources-air-pollution/friction-materials-manufacturing-facilities-national-emission. Following publication in the Federal Register, the EPA will post the Federal Register version and key technical documents at this same website.

Additional information is available on the RTR website at https://www.epa.gov/ttn/atw/rrisk/rtrpg.html. This information includes an overview of the RTR program, links to project websites for the RTR source categories, and detailed emissions and other data we used as inputs to the risk assessments.

C. Judicial Review and Administrative Reconsideration

Under CAA section 307(b)(1), judicial review of this final action is available only by filing a petition for review in the United States Court of Appeals for the District of Columbia Circuit (the Court) by April 9, 2019. Under CAA section 307(b)(2), the requirements established by this final rule may not be challenged separately in any civil or criminal proceedings brought by the EPA to enforce the requirements.

Section 307(d)(7)(B) of the CAA further provides that only an objection to a rule or procedure which was raised with reasonable specificity during the period for public comment (including any public hearing) may be raised during judicial review. This section also provides a mechanism for the EPA to reconsider the rule if the person raising an objection can demonstrate to the Administrator that it was impracticable to raise such objection within the period for public comment or if the grounds for such objection arose after the period for public comment (but within the time specified for judicial review) and if such objection is of central relevance to the outcome of the rule. Any person seeking to make such a demonstration should submit a Petition for Reconsideration to the Office of the Administrator, U.S. EPA, Room 3000, EPA WJC South Building, 1200 Pennsylvania Ave. NW, Washington, DC 20460, with a copy to both the person(s) listed in the preceding FOR FURTHER INFORMATION CONTACT section, and the Associate General Counsel for the Air and Radiation Law Office, Office of General Counsel (Mail Code 2344A), U.S. EPA, 1200 Pennsylvania Ave. NW, Washington, DC 20460.

II. Background

A. What is the statutory authority for this action?

Section 112 of the CAA establishes a two-stage regulatory process to address emissions of hazardous air pollutants (HAP) from stationary sources. In the first stage, we must identify categories of sources emitting one or more of the HAP listed in CAA section 112(b) and then promulgate technology-based NESHAP for those sources. “Major sources” are those that emit, or have the potential to emit, any single HAP at a rate of 10 tons per year (tpy) or more, or 25 tpy or more of any combination of HAP. For major sources, these standards are commonly referred to as maximum achievable control technology (MACT) standards and must reflect the maximum degree of emission reductions of HAP achievable (after considering cost, energy requirements, and non-air quality health and environmental impacts). In developing MACT standards, CAA section 112(d)(2) directs the EPA to consider the application of measures, processes, methods, systems, or techniques, including, but not limited to, those that reduce the volume of or eliminate HAP emissions through process changes, substitution of materials, or other modifications; enclose systems or processes to eliminate emissions; collect, capture, or treat HAP when released from a process, stack, storage, or fugitive emissions point; are design, equipment, work practice, or operational standards; or any combination of the above.

For these MACT standards, the statute specifies certain minimum stringency requirements, which are referred to as MACT floor requirements, and which may not be based on cost considerations. See CAA section 112(d)(3). For new sources, the MACT floor cannot be less stringent than the emission control achieved in practice by the best-controlled similar source. The MACT standards for existing sources can be less stringent than floors for new sources, but they cannot be less stringent than the average emission limitation achieved by the best-performing 12 percent of existing sources in the category or subcategory (or the best-performing five sources for categories or subcategories with fewer than 30 sources). In developing MACT standards, we must also consider control options that are more stringent than the floor under CAA section 112(d)(2). We may establish standards more stringent than the floor, based on the consideration of the cost of achieving the emissions reductions, any non-air quality health and environmental impacts, and energy requirements.

In the second stage of the regulatory process, the CAA requires the EPA to undertake two different analyses, which we refer to as the technology review and the residual risk review. Under the technology review, we must review the technology-based standards and revise them “as necessary (taking into account developments in practices, processes, and control technologies)” no less frequently than every 8 years, pursuant to CAA section 112(d)(6). Under the residual risk review, we must evaluate the risk to public health remaining after application of the technology-based standards and revise the standards, if necessary, to provide an ample margin of safety to protect public health or to prevent, taking into consideration costs, energy, safety, and other relevant factors, an adverse environmental effect. The residual risk review is required within 8 years after promulgation of the technology-based standards, pursuant to CAA section 112(f). In conducting the residual risk review, if the EPA determines that the current standards provide an ample margin of safety to protect public health, it is not necessary to revise the MACT standards pursuant to CAA section 112(f).¹ For more information on the statutory authority for this rule, see 83 FR 19499.

¹ The Court has affirmed this approach of implementing CAA section 112(f)(2)(A): NRDC v. EPA, 529 F.3d 1077, 1083 (D.C. Cir. 2008) (“If EPA determines that the existing technology-based standards provide an `ample margin of safety,' then the Agency is free to readopt those standards during the residual risk rulemaking.”).

B. What is the Friction Materials Manufacturing Facilities source category and how does the NESHAP regulate HAP emissions from the source category?

The EPA promulgated the Friction Materials Manufacturing Facilities NESHAP on October 18, 2002 (67 FR 64498). The standards are codified at 40 Code of Federal Regulations (CFR) part 63, subpart QQQQQ. The Friction Materials Manufacturing Facilities industry consists of facilities that manufacture friction materials using a solvent-based process. Friction materials are used in the manufacture of products used to accelerate or decelerate objects. Products that use friction materials include, but are not limited to, disc brake pucks, disc brake pads, brake linings, brake shoes, brake segments, blocks, brake discs, clutch facings, and clutches. The source category covered by this MACT standard currently includes two facilities.

The affected source is each friction material manufacturing solvent mixer. The NESHAP regulates emissions of HAP through emission standards for solvent, which are emitted from solvent mixers. Facilities subject to the NESHAP must reduce the emissions by using solvent recovery or another approved method. The emission standards are the same for new and existing solvent mixers, but are different for small and large solvent mixers. The emission limit for new, reconstructed, and existing large solvent mixers requires each facility that operates a large solvent mixer to limit HAP solvent emissions to the atmosphere to no more than 30 percent of that which would otherwise be emitted in the absence of solvent recovery and/or solvent substitution, based on a 7-day block average. The emission limit for new, reconstructed, and existing small solvent mixers requires facilities operating small solvent mixers to limit HAP solvent emissions to the atmosphere to no more than 15 percent of that which would otherwise be emitted in the absence of solvent recovery and/or solvent substitution, based on a 7-day block average.

C. What changes did we propose for the Friction Materials Manufacturing Facilities source category in our May 3, 2018, proposal?

On May 3, 2018, the EPA published a proposed rule in the Federal Register for the Friction Materials Manufacturing Facilities NESHAP, 40 CFR part 63, subpart QQQQQ, that took into consideration the RTR analyses. In the proposed rule, we proposed revisions to the SSM provisions of the MACT rule in order to ensure that they are consistent with the Court decision in Sierra Club v. EPA, 551 F.3d 1019 (D.C. Cir. 2008), which vacated two provisions in the EPA's “General Provisions” implementing CAA section 112 at 40 CFR part 63, subpart A, that exempted sources from the requirement to comply with otherwise applicable CAA section 112(d) emission standards during periods of SSM. In addition, we proposed to revise the rule's reporting requirements for deviations.

III. What is included in this final rule?

This action finalizes the EPA's determinations pursuant to the RTR provisions of CAA section 112 for the Friction Materials Manufacturing Facilities source category. This action also finalizes other changes to the NESHAP, including amendments to the SSM provisions of the MACT rule and revisions to the rule's reporting requirements for deviations.

A. What are the final rule amendments based on the risk review for the Friction Materials Manufacturing Facilities source category?

The EPA proposed no changes to the 40 CFR part 63, subpart QQQQQ, NESHAP based on the risk review conducted pursuant to CAA section 112(f). We are finalizing our proposed determination that risks from the source category following implementation of MACT standards are acceptable, considering all the health information and factors evaluated, and also considering risk estimation uncertainty. The EPA received no new data or other information during the public comment period that affected our determinations. Therefore, we are not requiring additional controls and, thus, are not making any revisions to the existing standards, in order to meet the requirements of CAA section 112(f). (However, as previously noted, we are making limited changes in order to improve implementation and to conform our standards to the 2008 Sierra Club ruling regarding SSM.)

B. What are the final rule amendments based on the technology review for the Friction Materials Manufacturing Facilities source category?

We determined that there are no developments in practices, processes, and control technologies that warrant revisions to the MACT standards for this source category. The EPA received no new data or other information during the public comment period that affected our determinations. Therefore, we are not finalizing revisions to the MACT standards in order to meet the requirements of CAA section 112(d)(6). (Again, however, we are making limited changes for other purposes, as previously noted and explained in detail below.)

C. What are the final rule amendments addressing emissions during periods of SSM?

In its 2008 decision in Sierra Club v. EPA, 551 F.3d 1019 (D.C. Cir. 2008), the Court vacated portions of two provisions in the EPA's CAA section 112 “General Provisions” regulations governing the emissions of HAP during periods of SSM. Specifically, the Court vacated the SSM exemption contained in 40 CFR 63.6(f)(1) and 40 CFR 63.6(h)(1), holding that under section 302(k) of the CAA, emissions standards or limitations must be continuous in nature and that the SSM exemption violates the CAA's requirement that some CAA section 112 standards apply continuously.

We have eliminated the SSM exemption in this rule. Consistent with Sierra Club v. EPA, the EPA has established standards in this rule that apply at all times. We have also revised Table 4 to subpart QQQQQ of Part 63 (the General Provisions applicability table) in several respects as is explained in more detail below. For example, we have eliminated the incorporation of the General Provisions' requirement that the source develop an SSM plan. We have also eliminated and revised certain recordkeeping and reporting that are related to the SSM exemption as described in detail in the proposal and summarized below.

D. What other changes have been made to the NESHAP?

The EPA is promulgating revisions to the rule's reporting requirements at 40 CFR 63.9540(c)(2) for deviations by requiring facilities to now report the date, time, a list of affected sources or equipment, an estimate of the quantity of each regulated pollutant emitted over any emission limit, a description of the method used to estimate the emissions, and the corrective action taken. In addition, facilities must continue to report the number, duration, and cause of deviations (including unknown cause, if applicable). To see how the revised regulatory text compares to the previous text, see the document, “Redline Version Showing Proposed Changes to 40 CFR part 63 subpart QQQQQ,” presenting 40 CFR 63.9540(c)(2), in Docket ID No. EPA-HQ-OAR-2017-0358.

E. What are the effective and compliance dates of the standards?

The revisions to the NESHAP being promulgated in this action are effective on February 8, 2019. The compliance date for existing affected sources, whether subject to the existing or new source limits in the original rule, to comply with the revised requirements is no later than 180 days after the effective date of the final rule. Affected sources that commenced construction or reconstruction after May 3, 2018, must comply with the all of the standards immediately upon the effective date of the standard, February 8, 2019, or upon startup, whichever is later.

All affected existing facilities would have to continue to meet the current requirements of 40 CFR part 63, subpart QQQQQ, until the applicable compliance date of the amended rule. The final action is not a “major rule” as defined by 5 U.S.C. 804(2), so the effective date of the final rule will be the promulgation date as specified in CAA sections 112(d)(10) and 112(f)(3). For existing sources, we are finalizing two changes that would impact ongoing compliance requirements for 40 CFR part 63, subpart QQQQQ. As discussed elsewhere in this preamble, we are changing the requirements for SSM by removing the exemption from the requirements to meet the standard during SSM periods and by removing the requirement to develop and implement an SSM plan. Our experience with similar industries shows that this sort of regulated facility generally requires a time period of 180 days to read and understand the amended rule requirements; evaluate their operations to ensure that they can meet the standards during periods of startup and shutdown as defined in the rule, and make any necessary adjustments in their practice of reporting deviations per the rule's revised requirements; adjust parameter monitoring and recording systems to accommodate revisions; and update their operations to reflect the revised requirements. From our assessment of the timeframe needed for compliance with the entirety of the revised requirements, the EPA considers a period of 180 days to be the most expeditious compliance period practicable and, thus, is finalizing that existing affected sources must be in compliance with all of this regulation's revised requirements within 180 days of the regulation's effective date.

IV. What is the rationale for our final decisions and amendments for the Friction Materials Manufacturing Facilities source category?

For each issue, this section provides a description of what we proposed and what we are finalizing, the EPA's rationale for the final decisions and amendments, and a summary of key comments and responses. For all comments not discussed in this preamble, comment summaries and the EPA's responses can be found in the comment summary and response document available in the docket, EPA-HQ-OAR-2017-0358.

A. Residual Risk Review for the Friction Materials Manufacturing Facilities Source Category

1. What did we propose pursuant to CAA section 112(f) for the Friction Materials Manufacturing Facilities source category?

For the 40 CFR part 63, subpart QQQQQ, category risk assessment conducted at proposal, the EPA estimated risks based on actual and allowable emissions from the two facilities subject to the Friction Materials Manufacturing Facilities NESHAP. Allowable emissions for the Railroad Friction Products Corporation (RFPC) at proposal were estimated to be equal to actual emissions. Allowable emissions for Knowlton Technologies LLC were set to the standard minimum of 70 percent of what otherwise would be emitted. The estimated inhalation cancer risk to the individual most exposed to emissions from the source category was less than 1-in-1-million. The assessment showed that no people faced an increased cancer risk greater than 1-in-1 million due to inhalation exposure to HAP emissions from this source category. The risk analysis at proposal indicated very low cancer incidence (0.000005 excess cancer cases per year, or one excess case every 200,000 years), as well as low potential for adverse chronic noncancer health effects. The acute screening assessment indicated no pollutants or facilities exceeding a hazard quotient value of 1. Therefore, we found there was little potential concern of acute noncancer health impacts. In evaluating the potential for multipathway effects, no HAP emissions known to be persistent and bio-accumulative in the environment were found in this source category. Therefore, we estimate that there is no multipathway risk from HAP emissions from this source category. Considering all the health risk information, the EPA proposed that the risks from the Friction Materials Manufacturing Facilities source category were acceptable, and that implementation of the existing standards provide an ample margin of safety to protect public health.

2. How did the risk review change for the Friction Materials Manufacturing Facilities source category?

In response to comments on the proposed 40 CFR part 63, subpart QQQQQ RTR, the EPA acknowledges that, although the EPA's method of calculating cancer incidence was implemented correctly, with the results presented correctly in the RTR risk report, we agree that the average risk values provided for the demographic analysis were calculated incorrectly. The EPA corrected the values for the demographics analysis and provided those corrections in the final RTR risk report for this source category. After making this correction, the EPA finds that the risks presented by HAP emissions from this source category are still acceptable and that the NESHAP protects public health with an ample margin of safety. The demographic analysis provides information about the demographic composition of the populations exposed to HAP emissions from this source category. The correction to the average risk values for the demographic analysis did not affect any decision in this rulemaking. All other parts of the risk review remained unchanged from proposal.

3. What key comments did we receive on the risk review, and what are our responses?

We received several comments regarding the proposed risk review and our determination that no revisions were warranted under CAA section 112(f)(2). Generally, the comments misunderstood the type of data used for the development of the risk review or suggested changes to the underlying risk assessment methodology. After review of these comments, we determined that no changes were necessary. The comments and our specific responses can be found in the document, “Summary of Public Comments and Responses for Friction Materials Manufacturing Facilities Risk and Technology Review,” which is available in the docket for this action.

These comments resulted in the EPA correcting the demographic analysis, which did not result in a change in the EPA's determination that the risks for this source category are acceptable and that the NESHAP protects public health with an ample margin of safety.

Additionally, a stakeholder commented on how the EPA set allowable emissions equal to actual emissions at RFPC. The EPA agrees with the stakeholder that allowable emissions should have been calculated by setting the solvent mixer emissions at 30 percent of the total solvent used, which is the requirement in the rule. However, this would result in a lower emissions calculation than what was used at proposal to estimate risk at allowable emission levels. Therefore, the EPA has determined that the proposal risk estimates for allowable emissions were overestimated, and, since we found that even with this overestimate that risks are acceptable and that the current standards provide an ample margin of safety, it is not necessary to re-run the model file in order to reflect such a correction.

Lastly, one comment resulted in the EPA clarifying the inclusion of emissions that do not come from affected sources in the source category. The stakeholder points out that the EPA assumes fugitive emissions are controlled under this standard. The EPA clarifies in the response to comments (RTC) document that phenol and formaldehyde emissions from Knowlton are non-affected source fugitive emissions. Including phenol and formaldehyde in the risk model results in a conservative assessment of risk presented by emissions that do not come from the affected sources in the source category, but from other points at the facility that are not subject to this NESHAP.

4. What is the rationale for our final approach and final decisions for the risk review?

We evaluated all the comments on the EPA's risk review and determined that other than the change in the demographic analysis calculation, which did not result in a change to the risk determination, no changes to the review are needed. For the reasons explained in the proposed rule, we determined that the risks from the Friction Materials Manufacturing Facilities source category are acceptable, and the current standards provide an ample margin of safety to protect public health and prevent an adverse environmental effect. Therefore, pursuant to CAA section 112(f)(2), we are finalizing our risk review determination as proposed.

B. Technology Review for the Friction Materials Manufacturing Facilities Source Category

1. What did we propose pursuant to CAA section 112(d)(6) for the Friction Materials Manufacturing Facilities source category?

Our review of the developments in technology for the Friction Materials Manufacturing Facilities source category did not reveal any changes in practices, processes, and controls that warrant revisions to the emission standards. Because our review did not identify any cost-effective practices, processes, or controls to reduce emissions in the category since promulgation of the current NESHAP, we proposed that no revisions to the NESHAP are necessary pursuant to CAA section 112(d)(6).

2. How did the technology review change for the Friction Materials Manufacturing Facilities source category?

The technology review did not change from proposal. Therefore, we are finalizing our proposal determination that no revisions to the NESHAP are necessary pursuant to CAA section 112(d)(6).

3. What key comments did we receive on the technology review, and what are our responses?

We received several comments regarding the proposed technology review and our determination that no revisions were warranted under CAA section 112(d)(6). We received no comments that identified improved control technology, work practices, operational procedures, process changes, or pollution prevention approaches to reduce emissions in the category since promulgation of the current NESHAP. Generally, the commenters misunderstood the role of the technology review and the associated evaluations of technological advancements. After review of these comments, we determined that no changes were necessary. The comments and our specific responses can be found in the document, “Summary of Public Comments and Responses for Friction Materials Manufacturing Facilities Risk and Technology Review,” which is available in the docket for this action.

Of the comments pertaining to the technology review, there were several comments that addressed the EPA's discussion of non-solvent mixers. Several comments addressed the concern that the EPA was appearing to endorse facilities' averaging among mixers in order to comply with the standard. The EPA stated in the RTC document and reiterates here that compliance determinations are not part of the RTR, that the current standards apply on a mixer-by-mixer basis, and that the EPA is not proposing any changes to the source category or affected source definitions in this action.

4. What is the rationale for our final approach for the technology review?

Our technology review looked for add-on control technology that was not identified during the original NESHAP development and for improvements to existing add-on controls. We also looked for new work practices, operational procedures, process changes, pollution prevention alternatives, coating formulations, or application techniques that have the potential to reduce emissions. Since our review did not identify any cost-effective improved control technology, work practices, operational procedures, process changes, or pollution prevention approaches to reduce emissions in the category since promulgation of the current NESHAP, we proposed that no revisions to the NESHAP are necessary pursuant to CAA section 112(d)(6). Since proposal, no information has been presented to cause us to change the proposed determination. Consequently, we are finalizing our CAA section 112(d)(6) determination as proposed.

C. SSM

1. What did we propose for the Friction Materials Manufacturing Facilities source category?

In its 2008 decision in Sierra Club v. EPA, 551 F.3d 1019 (D.C. Cir. 2008), the Court vacated portions of two provisions in the EPA's CAA section 112 General Provisions regulations governing the emissions of HAP during periods of SSM. Specifically, the Court vacated the SSM exemption contained in 40 CFR 63.6(f)(1) and 40 CFR 63.6(h)(1), holding that under section 302(k) of the CAA, emissions standards or limitations must be continuous in nature and that the SSM exemption violates the CAA's requirement that some CAA section 112 standards apply continuously.

We proposed amendments to the Friction Materials Manufacturing Facilities NESHAP to remove or revise provisions related to SSM that are not consistent with the requirement that the standards apply at all times. More information concerning SSM is in the preamble to the proposed rule (83 FR 19499).

2. How did the SSM provisions change for the Friction Materials Manufacturing Facilities source category?

The SSM provisions did not change from proposal.

3. What key comments did we receive on the SSM provisions, and what are our responses?

We received one comment supporting our proposed changes to the SSM provisions. The EPA acknowledges the comment supporting the proposed changes.

4. What is the rationale for our final approach for the SSM provisions?

We evaluated the comment on the EPA's proposed amendments to the SSM provisions. For the reasons explained in the proposed rule, we determined that these amendments remove or revise provisions related to SSM that are not consistent with the requirement that the standards apply at all times. More information concerning the proposed amendments to the SSM provisions is in the preamble to the proposed rule (83 FR 19499). We are finalizing the amendments to remove or revise provisions related to SSM, as proposed.

V. Summary of Cost, Environmental, and Economic Impacts and Additional Analyses Conducted

A. What are the affected facilities?

There are currently two friction materials manufacturing facilities operating in the United States that are subject to the Friction Materials Manufacturing Facilities NESHAP. The 40 CFR part 63, subpart QQQQQ, affected source is the solvent mixers used for friction manufacturing products. A new affected source is a completely new friction products manufacturing source where previously no friction products manufacturing had existed.

B. What are the air quality impacts?

At the current level of control, the EPA estimates emissions of total HAP are approximately 240 tpy. Because we are not finalizing revisions to the emission limits other than to make them applicable during SSM periods, we do not anticipate any air quality impacts as a result of the proposed amendments, since facilities are already in compliance with emission limits during all periods, including SSM.

C. What are the cost impacts?

The two existing friction materials manufacturing facilities that are subject to the final amendments would incur a net cost savings resulting from the revised recordkeeping and reporting requirements. The 2016 equivalent annualized value (in 2016 dollars) of these net cost savings from 2019 through 2026 is $5,920 per year when costs are discounted at a 7-percent rate, and $6,648 per year when costs are discounted at a 3-percent rate. For further information on the costs and cost savings associated with the requirements being revised, see the memorandum, “Economic Impact Analysis for Friction Material Manufacturing Final Rule,” and the document, “Friction Materials Manufacturing 2018 Supporting Statement,” which are both available in the docket for this action.

D. What are the economic impacts?

As noted earlier, this action will result in a net cost savings to affected entities. This cost savings is not expected to have adverse economic impacts.

E. What are the benefits?

The EPA did not change any of the emission limit requirements and estimates the final changes to SSM, recordkeeping, reporting, and monitoring are not economically significant. Because these final amendments are not considered economically significant, as defined by Executive Order 12866 and because no emission reductions were estimated, we did not estimate any benefits from reducing emissions.

F. What analysis of environmental justice did we conduct?

Executive Order 12898 (59 FR 7629, February 16, 1994) establishes federal executive policy on environmental justice. Its main provision directs federal agencies, to the greatest extent practicable and permitted by law, to make environmental justice part of their mission by identifying and addressing, as appropriate, disproportionately high and adverse human health or environmental effects of their programs, policies, and activities on minority populations and low-income populations in the United States.

To examine the potential for any environmental justice issues that might be associated with the source category, we performed a demographic analysis, which is an assessment of risks to individual demographic groups of the populations living within 5 kilometers (km) and within 50 km of the facilities. In the analysis, we evaluated the distribution of HAP-related cancer and noncancer risks from the Friction Materials Manufacturing Facilities source category across different demographic groups within the populations living near facilities.²

² Demographic groups included in the analysis are: White, African American, Native American, other races and multiracial, Hispanic or Latino, children 17 years of age and under, adults 18 to 64 years of age, adults 65 years of age and over, adults without a high school diploma, people living below the poverty level, people living two times the poverty level, and linguistically isolated people.

The results of the demographic analysis was updated from proposal to reflect corrections made to the analysis from comments received by the EPA and are summarized in Table 2 below. These results, for various demographic groups, are based on the estimated risks from actual emissions levels for the population living within 50 km of the facilities.

Table 2—Friction Materials Manufacturing Facilities Source Category Demographic Risk Analysis Results
| Nationwide | Population with cancer risk at or above 1-in-1 million due to Friction Materials Manufacturing Facilities ¹ | Population with chronic hazard index above 1 Friction Materials Manufacturing Facilities
Total Population | 317,746,049 | 0 | 0
Race by Percent:
White | 62 | 0 | 0
All Other Races | 38 | 0 | 0
Race by Percent:
White | 62 | 0 | 0
African American | 12 | 0 | 0
Native American | 0.8 | 0 | 0
Other and Multiracial | 7 | 0 | 0
Ethnicity by Percent:
Hispanic | 18 | 0 | 0
Non-Hispanic | 82 | 0 | 0
Income by Percent:
Below Poverty Level | 14 | 0 | 0
Above Poverty Level | 86 | 0 | 0
Education by Percent:
Over 25 and without High School Diploma | 14 | 0 | 0
Over 25 and with a High School Diploma | 86 | 0 | 0
Linguistically Isolated by Percent:
Linguistically Isolated | 6 | 0 | 0
¹ Based on actual emissions in the category.

The results of the Friction Materials Manufacturing Facilities source category demographic analysis indicate that emissions from the source category do not expose people to a cancer risk at or above 1-in-1 million based on actual or allowable emissions. Also, no people are exposed to a chronic noncancer target organ-specific hazard index greater than 1 based on actual or allowable emissions. The percentages of the at-risk population are much smaller than their respective nationwide percentages for all demographic groups.

The EPA received comment on our proposed rule stating that we ignored unacceptably disproportionate effects on environmental justice communities. As noted above, we corrected our demographic analysis. For this source category, cancer risks were less than 1-in-1 million and the noncancer hazards were less than 1. At these risk levels, all populations are exposed to an acceptable level with an ample margin of safety without any demographic group (including Native American Indians) being disproportionately impacted. A more detailed demographic risk analysis may be conducted at the facility level if risk findings for the source category indicate a level that is unacceptable without an ample margin of safety.

The EPA has, therefore, reaffirmed its determination that this final rule will not have disproportionately high and adverse human health or environmental effects on minority, low income, or indigenous populations because it maintains the level of environmental protection for all affected populations without having any disproportionately high and adverse human health or environmental effects on any population, including any minority, low income, or indigenous populations.

The methodology and the results of the demographic analysis are presented in a technical report, “Risk and Technology Review—Analysis of Demographic Factors for Populations Living Near Friction Materials Manufacturing Facilities Source Category,” available in Docket ID No. EPA-HQ-OAR-2017-0358 for this action.

G. What analysis of children's environmental health did we conduct?

This action is not subject to Executive Order 13045 because it is not economically significant as defined in Executive Order 12866, and because the EPA does not believe the environmental health or safety risks addressed by this action present a disproportionate risk to children. This action's health and risk assessments are contained in “Residual Risk Assessment for the Friction Materials Manufacturing Facilities Source Category in Support of the 2018 Risk and Technology Review Final Rule,” available in Docket ID No. EPAHQ-OAR-2017-0358 for this action.

VI. Statutory and Executive Order Reviews

Additional information about these statutes and Executive Orders can be found at https://www.epa.gov/laws-regulations/laws-and-executive-orders.

A. Executive Order 12866: Regulatory Planning and Review and Executive Order 13563: Improving Regulation and Regulatory Review

This action is not a significant regulatory action and was, therefore, not submitted to the Office of Management and Budget (OMB) for review.

B. Executive Order 13771: Reducing Regulations and Controlling Regulatory Costs

This action is considered an Executive Order 13771 deregulatory action. Details on the estimated cost savings of this final rule can be found in the EPA's analysis of the potential costs and benefits associated with this action.

C. Paperwork Reduction Act (PRA)

The information collection activities in this rule have been submitted for approval to OMB under the PRA. The Information Collection Request (ICR) document that the EPA prepared has been assigned EPA ICR number 2025.08. You can find a copy of the ICR in the docket for this rule, and it is briefly summarized here. The information collection requirements are not enforceable until OMB approves them.

We are finalizing changes to the recordkeeping and reporting requirements associated with 40 CFR part 63, subpart QQQQQ, in the form of eliminating the SSM plan and reporting requirements and increasing reporting requirements for the semiannual report of deviation. We also recalculated the estimated recordkeeping burden for records of SSM to more accurately represent the removal of the SSM exemption, which is discussed in more detail in the memorandum, “Email Correspondence Estimating the Cost of SSM Reporting with Knowlton Technologies, LLC.”

Respondents/affected entities: The respondents to the recordkeeping and reporting requirements are owners or operators of facilities that produce friction products subject to 40 CFR part 63, subpart QQQQQ.

Respondent's obligation to respond: Mandatory (40 CFR part 63, subpart QQQQQ).

Estimated number of respondents: Two facilities.

Frequency of response: Initially and semiannually.

Total estimated burden: The annual recordkeeping and reporting burden for responding facilities to comply with all of the requirements in the NESHAP, averaged over the 3 years of this ICR, is estimated to be 535 hours (per year). Of these, 115 hours (per year) is the reduced burden to comply with the rule amendments. Burden is defined at 5 CFR 1320.3(b).

Total estimated cost: The annual recordkeeping and reporting cost for responding facilities to comply with all of the requirements in the NESHAP, averaged over the 3 years of this ICR, is estimated to be $35,200 (rounded, per year), including $544 annualized capital or operation and maintenance costs. This results in a decrease of $7,400 (rounded, per year) to comply with the amendments to the rule.

An agency may not conduct or sponsor, and a person is not required to respond to, a collection of information unless it displays a currently valid OMB control number. The OMB control numbers for the EPA's regulations in 40 CFR are listed in 40 CFR part 9. When OMB approves this ICR, the Agency will announce that approval in the Federal Register and publish a technical amendment to 40 CFR part 9 to display the OMB control number for the approved information collection activities contained in this final rule.

D. Regulatory Flexibility Act (RFA)

I certify that this action will not have a significant economic impact on a substantial number of small entities under the RFA. This action will not impose any requirements on small entities. There are no small entities in this regulated industry.

E. Unfunded Mandates Reform Act (UMRA)

This action does not contain an unfunded mandate of $100 million or more as described in UMRA, 2 U.S.C. 1531-1538, and does not significantly or uniquely affect small governments. The action imposes no enforceable duty on any state, local, or tribal governments, or the private sector.

F. Executive Order 13132: Federalism

This action does not have federalism implications. It will not have substantial direct effects on the states, on the relationship between the national government and the states, or on the distribution of power and responsibilities among the various levels of government.

G. Executive Order 13175: Consultation and Coordination With Indian Tribal Governments

This action does not have tribal implications as specified in Executive Order 13175. No tribal facilities are known to be engaged in the friction material manufacturing industry that would be affected by this action. Thus, Executive Order 13175 does not apply to this action.

H. Executive Order 13045: Protection of Children From Environmental Health Risks and Safety Risks

This action is not subject to Executive Order 13045 because it is not economically significant as defined in Executive Order 12866, and because the EPA does not believe the environmental health or safety risks addressed by this action present a disproportionate risk to children. This action's health and risk assessments are contained in sections III.A and IV.A and B of this preamble.

I. Executive Order 13211: Actions Concerning Regulations That Significantly Affect Energy Supply, Distribution, or Use

This action is not subject to Executive Order 13211 because it is not a significant regulatory action under Executive Order 12866.

J. National Technology Transfer and Advancement Act (NTTAA)

This action involves technical standards. Therefore, the EPA conducted a search to identify potentially applicable voluntary consensus standards. However, the Agency identified no such standards. Therefore, the EPA has decided to continue the use of the weighing procedures based on EPA Method 28 of 40 CFR part 60, appendix A (section 10.1) for weighing of recovered solvent. A thorough summary of the search conducted and results are included in the memorandum titled “Voluntary Consensus Standard Results for Friction Materials Manufacturing Facilities Residual Risk and Technology Review,” which is available in the docket for this action.

K. Executive Order 12898: Federal Actions To Address Environmental Justice in Minority Populations and Low-Income Populations

The EPA believes that this action does not have disproportionately high and adverse human health or environmental effects on minority populations, low-income populations, and/or indigenous peoples, as specified in Executive Order 12898 (59 FR 7629, February 16, 1994).

The documentation for this decision is contained in the technical report, “Friction Materials Manufacturing Demographic Analysis,” which is available in the docket for this action.

L. Congressional Review Act (CRA)

This action is subject to the CRA, and the EPA will submit a rule report to each House of the Congress and to the Comptroller General of the United States. This action is not a “major rule” as defined by 5 U.S.C. 804(2).

List of Subjects in 40 CFR Part 63

Environmental protection, Administrative practice and procedures, Air pollution control, Hazardous substances, Intergovernmental relations, Reporting and recordkeeping requirements.

Dated: December 20, 2018.
Andrew R. Wheeler,
Acting Administrator.

For the reasons stated in the preamble, title 40, chapter I, part 63 of the Code of Federal Regulations is amended as follows:

PART 63—NATIONAL EMISSION STANDARDS FOR HAZARDOUS AIR POLLUTANTS FOR SOURCE CATEGORIES

1. The authority citation for part 63 continues to read as follows:

Authority: 42 U.S.C. 7401 et seq.

Subpart QQQQQ—National Emission Standards for Hazardous Air Pollutants for Friction Materials Manufacturing Facilities

2. Section 63.9495 is amended by revising paragraphs (a) and (b) and adding paragraph (e) to read as follows:

§ 63.9495 When do I have to comply with this subpart?

(a) If you have an existing solvent mixer, you must comply with each of the requirements for existing sources no later than October 18, 2005, except as otherwise specified at this section and §§ 63.9505, 63.9530, 63.9540, 63.9545, and Table 1 to this subpart.

(b) If you have a new or reconstructed solvent mixer for which construction or reconstruction commenced after October 18, 2002, but before May 4, 2018, you must comply with the requirements for new and reconstructed sources upon initial startup, except as otherwise specified at this section and §§ 63.9505, 63.9530, 63.9540, 63.9545, and Table 1 to this subpart.

* * * * *

(e) Solvent mixers constructed or reconstructed after May 3, 2018, must be in compliance with this subpart at startup or by February 8, 2019, whichever is later.

3. Revise § 63.9505 to read as follows:

§ 63.9505 What are my general requirements for complying with this subpart?

(a) Before August 7, 2019, for each existing source and each new or reconstructed source for which construction or reconstruction commenced after October 18, 2002, but before May 4, 2018, you must be in compliance with the emission limitations in this subpart at all times, except during periods of startup, shutdown, or malfunction. On and after August 7, 2019, for each such source you must be in compliance with the emission limitations in this subpart at all times. For new and reconstructed sources for which construction or reconstruction commenced after May 3, 2018, you must be in compliance with the emissions limitations in this subpart at all times.

(b) Before August 7, 2019, for each existing source, and for each new or reconstructed source for which construction or reconstruction commenced after October 18, 2002, but before May 4, 2018, you must always operate and maintain your affected source, including air pollution control and monitoring equipment, according to the provisions in § 63.6(e)(1)(i). On and after August 7, 2019 for each such source, and after February 8, 2019 for new and reconstructed sources for which construction or reconstruction commenced after May 3, 2018, at all times you must operate and maintain any affected source, including associated air pollution control equipment and monitoring equipment, in a manner consistent with safety and good air pollution control practices for minimizing emissions. The general duty to minimize emissions does not require you to make any further efforts to reduce emissions if levels required by the applicable standard have been achieved. Determination of whether a source is operating in compliance with operation and maintenance requirements will be based on information available to the Administrator which may include, but is not limited to, monitoring results, review of operation and maintenance procedures, review of operation and maintenance records, and inspection of the source.

(c) Before August 7, 2019, for each existing source, and for each new or reconstructed source for which construction commenced after October 18, 2002, but before May 4, 2018, you must develop a written startup, shutdown, and malfunction plan according to the provisions in § 63.6(e)(3). For each such source, a startup, shutdown, and malfunction plan is not required on and after August 7, 2019. No startup, shutdown, and malfunction plan is required for any new or reconstructed source for which construction or reconstruction commenced after May 3, 2018.

4. Section 63.9530 is amended by revising paragraphs (a)(1) and (e) to read as follows:

§ 63.9530 How do I demonstrate continuous compliance with the emission limitation that applies to me?

(a) * * *

(1) For existing sources and for new or reconstructed sources for which construction or reconstruction commenced after October 18, 2002, but before May 4, 2018, before August 7, 2019, except for during malfunctions of your weight measurement device and associated repairs, you must collect and record the information required in § 63.9520(a)(1) through (8) at all times that the affected source is operating and record all information needed to document conformance with these requirements. On and after August 7, 2019 for such sources, and after February 8, 2019 for new or reconstructed sources that commenced construction after May 3, 2018, you must collect and record the information required in § 63.9520(a)(1) through (8) at all times that the affected source is operating and record all information needed to document conformance with these requirements.

* * * * *

(e) For existing sources and for new or reconstructed sources which commenced construction or reconstruction after October 18, 2002, but before May 4, 2018, before August 7, 2019, consistent with §§ 63.6(e) and 63.7(e)(1), deviations that occur during a period of startup, shutdown, or malfunction are not violations if you demonstrate to the Administrator's satisfaction that you were operating in accordance with § 63.6(e)(1). The Administrator will determine whether deviations that occur during a period of startup, shutdown, or malfunction are violations, according to the provisions in § 63.6(e). On and after August 7, 2019 for such sources, and after February 8, 2019 for new or reconstructed sources which commence construction or reconstruction after May 3, 2018, all deviations are considered violations.

5. Section 63.9540 is amended by revising paragraphs (b)(4), (c)(2), and (d) to read as follows:

§ 63.9540 What reports must I submit and when?

* * * * *

(b) * * *

(4) For existing sources and for new or reconstructed sources for which construction or reconstruction commenced after October 18, 2002, but before May 4, 2018, before August 7, 2019, if you had a startup, shutdown, or malfunction during the reporting period and you took actions consistent with your startup, shutdown, and malfunction plan, the compliance report must include the information in § 63.10(d)(5)(i). A startup, shutdown, and malfunction plan is not required for such sources on and after August 7, 2019.

* * * * *

(c) * * *

(2) For existing sources and for new or reconstructed sources which commenced construction or reconstruction after October 18, 2002, but before May 4, 2018, before August 7, 2019, information on the number, duration, and cause of deviations (including unknown cause, if applicable), as applicable, and the corrective action taken. On and after August 7, 2019 for such sources, and after February 8, 2019 for new or reconstructed sources which commenced construction or reconstruction after May 3, 2018, information on the number of deviations to meet an emission limitation. For each instance, include the date, time, duration, and cause of deviations (including unknown cause, if applicable), as applicable, a list of the affected source or equipment, an estimate of the quantity of each regulated pollutant emitted over any emission limit, and a description of the method used to estimate the emissions, and the corrective action taken.

(d) For existing sources and for new or reconstructed sources which commenced construction or reconstruction after October 18, 2002, but before May 4, 2018, before August 7, 2019, if you had a startup, shutdown, or malfunction during the semiannual reporting period that was not consistent with your startup, shutdown, and malfunction plan, you must submit an immediate startup, shutdown, and malfunction report according to the requirements in § 63.10(d)(5)(ii). An immediate startup, shutdown, and malfunction report is not required for such sources on and after August 7, 2019.

* * * * *

6. Section 63.9545 is amended by revising paragraph (a)(2) and adding paragraph (a)(3) to read as follows:

§ 63.9545 What records must I keep?

(a) * * *

(2) For existing sources and for new or reconstructed sources which commenced construction or reconstruction after October 18, 2002, but before May 4, 2018, before August 7, 2019, the records in § 63.6(e)(3)(iii) through (v) related to startup, shutdown, or malfunction. For such sources, it is not required to keep records in § 63.6(e)(3)(iii) through (v) related to startup, shutdown, or malfunction on and after August 7, 2019.

(3) After February 8, 2019 for new or reconstructed sources which commenced construction or reconstruction after May 3, 2018, and on and after August 7, 2019 for all other affected sources, in the event that an affected unit fails to meet an applicable standard, record the number of deviations. For each deviation, record the date, time and duration of each deviation.

(i) For each deviation, record and retain cause of deviations (including unknown cause, if applicable), a list of the affected source or equipment, an estimate of the quantity of each regulated pollutant emitted over any emission limit, and a description of the method used to estimate the emissions.

(ii) Record actions taken to minimize emissions in accordance with § 63.9505, and any corrective actions taken to return the affected unit to its normal or usual manner of operation.

* * * * *

7. Table 1 to subpart QQQQQ of part 63 is amended by:

a. Removing the entry “§ 63.6(a)-(c), (e)-(f), (i)-(j)”;

b. Adding the entries “§ 63.6(a)-(c), (i)-(j)”, “§ 63.6(e)(1)(i)-(ii)”, “§ 63.6(e)(1)(iii), (e)(2)”, “§ 63.6(e)(3)”, “§ 63.6(f)(1)”, and “§ 63.6(f)(2)-(3)” in numerical order;

c. Removing the entry “§ 63.8(a)(1)-(2), (b), (c)(1)-(3), (f)(1)-(5)”;

d. Adding the entries “§ 63.8(a)(1)-(2)”, “§ 63.8(b)”, “§ 63.8(c)(1)(i), (iii)”, “§ 63.8(c)(1)(ii), (c)(2), (c)(3)”, and “§ 63.8(f)(1)-(5)” in numerical order;

e. Removing the entry “§ 63.10(a), (b), (d)(1), (d)(4)-(5), (e)(3), (f)”; and

f. Adding the entries “§ 63.10(a), (b)(1), (d)(1), (d)(4), (e)(3), (f)”, “§ 63.10(b)(2)(i), (ii), (iv), (v)”, “§ 63.10(b)(2)(iii), (vi)-(xiv)”, and “§ 63.10(d)(5)” in numerical order.

The revisions and additions read as follows:

Table 1 to Subpart QQQQQ of Part 63—Applicability of General Provisions to Subpart QQQQQ
* * * * * * *
Citation | Subject | Applies to subpart QQQQQ? | Explanation
* * * * * * *
§ 63.6(a)-(c), (i)-(j) | Compliance with Standards and Maintenance Requirements | Yes
* * * * * * *
§ 63.6(e)(1)(i)-(ii) | SSM Operation and Maintenance Requirements | No, for new or reconstructed sources which commenced construction or reconstruction after May 3, 2018. Yes, for all other affected sources before August 7, 2019, and No thereafter | Subpart QQQQQ requires affected units to meet emissions standards at all times. See § 63.9505 for general duty requirement.
§ 63.6(e)(1)(iii), (e)(2) | Operation and Maintenance | Yes
§ 63.6(e)(3) | SSM Plan Requirements | No, for new or reconstructed sources which commenced construction or reconstruction after May 3, 2018. Yes, for all other affected sources before August 7, 2019, and No thereafter | Subpart QQQQQ requires affected units to meet emissions standards at all times.
§ 63.6(f)(1) | SSM Exemption | No, for new or reconstructed sources which commenced construction or reconstruction after May 3, 2018. Yes, for all other affected sources before August 7, 2019, and No thereafter | Subpart QQQQQ requires affected units to meet emissions standards at all times.
§ 63.6(f)(2)-(3) | Compliance with Nonopacity Emission Standards | Yes
* * * * * * *
§ 63.8(a)(1)-(2) | Applicability and Relevant Standards for CMS | Yes
* * * * * * *
§ 63.8(b) | Conduct of Monitoring | Yes
§ 63.8(c)(1)(i), (iii) | Continuous Monitoring System (CMS) SSM Requirements | No, for new or reconstructed sources which commenced construction or reconstruction after May 3, 2018. Yes, for all other affected sources before August 7, 2019, and No thereafter.
§ 63.8(c)(1)(ii), (c)(2), (c)(3) | CMS Repairs, Operating Parameters, and Performance Tests | Yes
* * * * * * *
§ 63.8(f)(1)-(5) | Alternative Monitoring Procedure | Yes
* * * * * * *
§ 63.10(a), (b)(1), (d)(1), (d)(4), (e)(3), (f) | Recordkeeping and Reporting Requirements | Yes
* * * * * * *
§ 63.10(b)(2)(i), (ii), (iv), (v) | Recordkeeping for Startup, Shutdown and Malfunction | No, for new or reconstructed sources which commenced construction or reconstruction after May 3, 2018. Yes, for all other affected sources before August 7, 2019, and No thereafter | See § 63.9545 for recordkeeping requirements.
§ 63.10(b)(2)(iii), (vi)-(xiv) | Owner/Operator Recordkeeping Requirements | Yes
* * * * * * *
§ 63.10(d)(5) | SSM reports | No, for new or reconstructed sources which commenced construction or reconstruction after May 3, 2018. Yes, for all other affected sources before August 7, 2019, and No thereafter | See § 63.9540 for malfunction reporting requirements.
* * * * * * *

[FR Doc. 2019-00786 Filed 2-7-19; 8:45 am]

BILLING CODE 6560-50-P